DEPARTMENT OF ENERGY

Federal Energy Regulatory Commission

[Project No. 2309-019]

Jersey Central Power and Light; PSEG Fossil LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2309-019.

c. Date Filed: February 18, 2011.

d. Applicant: Jersey Central Power and Light and PSEG Fossil LLC.

e. Name of Project: Yards Creek Pumped Storage Project.

f. Location: The existing project is located on Yards Creek, in the townships of Hardwick and Blairstown, Warren County, New Jersey. No Federal lands are involved.

g. Filed pursuant to: Federal Power Act, 16 U.S.C. 791(a)-825(r).

h. Applicant Contact: Timothy Oakes, Project Manager, Kleinschmidt Associates, 2 East Main Street, Strasburg, PA 17579; Telephone (717) 687-7211.

i. FERC Contact: Allyson Conner, (202) 502-6082 or allyson.conner@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Yards Creek Pumped Storage Project consists of: (1) An upper reservoir with a total usable storage capacity of 4,763 acre-feet; (2) a lower reservoir with a total usable storage capacity of 5,452 acre-feet; (3) an auxiliary reservoir with seasonal storage of 412 acre-feet formed by the auxiliary reservoir dam, which is 1,000 feet long and 20 feet high; (4) a main, earthfill dam at the lower reservoir that is 1,404 feet long and 52 feet high; (5) an auxiliary dike at the lower reservoir that is 2,091 feet long and 35 feet high; (6) a 2,116-foot, 35-foot-wide intake channel in the floor of the upper reservoir; (7) a 95-foot-high concrete intake structure with trashracks and stop logs; (8) a 1,130-foot-long, 20-foot-diameter concrete-lined pressure tunnel; (9) a 210-foot-long, 19-foot-diameter steel-lined pressure tunnel; (10) a 144-foot-long, 19-foot-diameter concrete encased steel-lined transition section; (11) a 478-foot-long, 19-foot-diameter steel penstock; (12) an 8-foot-long reducer from a 19-foot-diameter to 18-foot-diameter penstock; (13) a 1,582-foot-long, 18-foot-diameter steel penstock; (14) a 325-foot-long trifurcated penstock, one penstock per pumping-generating unit that tapers from 10-foot-diameter to 7-foot 2.5-inch-diameter; (15) 86.5-inch spherical guard valves at the entrance to each pump-turbine spiral case; (16) three vertical shaft, Francis-type, reversible pump-turbine engine units, each with a nameplate generating capacity of 140 megawatts; (17) a 140-foot-long by 63.5-foot-wide underground concrete powerhouse; and (18) appurtenant facilities.

The licensee proposes to raise the preliminary spillway crest at the lower reservoir by 1 foot, to 819.5 feet, to provide for additional storage by adding wooden flashboards. The licensee also proposes raising the upper reservoir pool elevation 2 feet, from 1,555 feet to 1,557 feet, allowing only 4 feet of freeboard to the crest elevation of 1,561 feet. As an additional precaution to existing monitors and controls, the licensee is proposing to install an overflow structure at the upper reservoir to prevent overtopping the non-overflow structures (dikes) in the event of high water levels.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary fishway prescriptions | August 9, 2011.
Commission issues Single EA | December 7, 2011.
Comments on EA | January 6, 2011.
Modified terms and conditions | March 5, 2012.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: June 10, 2011.
Kimberly D. Bose,
Secretary.

[FR Doc. 2011-14967 Filed 6-15-11; 8:45 am]

BILLING CODE 6717-01-P